DEPARTMENT OF HOUSING AND URBAN DEVELOPMENT

[Docket No. FR-4651-N-03]

Notice of Proposed Information Collection: Comment Request Nondiscrimination Based on Handicap in Federally-Assisted Programs and Activities

AGENCY: Office of the Assistant Secretary for Fair Housing and Equal Opportunity, HUD.

ACTION: Notice.

SUMMARY: The proposed information collection requirement concerning Section 504—Nondiscrimination Based on Handicap in Federally-Assisted Programs and Activities will be submitted to the Office of Management and Budget (OMB) for review, as required by the Paperwork Reduction Act. The Department is soliciting public comments on the subject proposal.

DATES: Comments Due Date: August 28, 2001.

ADDRESSES: Interested persons are invited to submit comments regarding this proposal. Comments should refer to the proposal by name and/or OMB Control Number and should be sent to: Milton Turner, Department of Housing and Urban Development, 451 7th Street, SW., Room 5240, Washington, DC 20410.

FOR FURTHER INFORMATION CONTACT: Milton Turner, Department of Housing and Urban Development, 451 7th Street, SW., Room 5240, Washington, DC 20410. Telephone number (202) 708-2333, Extension 7057 (this is not a toll-free number). Copies of the proposed forms and other available documents submitted to Office of Management and Budget may be obtained from Milton Turner. Hearing- or speech-impaired individuals may access this TTY number by calling the toll-free Federal Information Relay Service at 1-800-877-8399 for copies of the proposed forms and other available documents.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

Title: Non-discrimination Based on Handicap in Federally-Assisted Programs.

OMB Control Number: 2529-0034.

Office: Fair Housing and Equal Opportunity.

Description of the need for the information and proposed use: The information is needed to ensure that HUD recipients comply with the Section 504 Reporting Requirements at:

• 24 CFR 8.21(c)(4) and 24 CFR 8.24(d)—Transition Plans. Recipients must develop transition plans setting forth the steps necessary to complete structural changes that would make their programs and activities accessible to persons with disabilities.

• 24 CFR 8.51—Self Evaluation. Recipients must evaluate their current policies and practices to determine whether, in whole or in part, they do not or may not meet the requirements of Section 504.

• 24 CFR 8.25(c)—Needs Assessment and Transition Plan. Public/Indian housing authorities must assess the needs of current tenants and applicants on waiting lists for accessible units and assess the extent to which such needs have not been met or cannot reasonably be met. PHAs must develop transition plans setting forth steps necessary to complete structural changes that would make their programs and activities accessible to persons with disabilities.

• 24 CFR 8.55(b)—Compliance Reports. Recipients should keep complete and accurate reports, as determined by the Department, to enable the Department to ascertain whether the recipient has compiled or is complying with the requirements of Section 504. Recipients should have available for the Department data showing the extent to which individuals with disabilities are beneficiaries of federally-assisted programs. In addition, each recipient shall also make available to participants, beneficiaries, and other interested persons information regarding the provisions of Section 504 and its applicability to the program or activity under which the recipient receives Federal financial assistance.

Agency form numbers: None.

Members of affected public: All recipients of Federal financial assistance from this Department, including public and private non-profit organizations and qualified persons with disabilities.

Estimation of the total numbers of hours needed to prepare the information collection, including number of respondents, frequency of response, and hours of response: On an annual basis, 325 respondents (HUD recipients) will submit two (2) reports to HUD. It is estimated that four (4) hours will be required of a recipient to prepare either of the reporting requirements, for a total of 2600 hours.

Status of the proposed information collection: Reinstatement of a previously-approved collection.

Authority: The Paperwork Reduction Act of 1995, 44 U.S.C. Chapter 35, as amended.

Dated: June 21, 2001.
David H. Enzel,
Deputy Assistant Secretary for Enforcement and Programs.

[FR Doc. 01-16379 Filed 6-28-01; 8:45 am]

BILLING CODE 4210-28-M